FEDERAL COMMUNICATIONS COMMISSION

47 CFR Part 73

[DA 02-1543; MM Docket No. 01-243; RM-10263]

Radio Broadcasting Services; Freer, TX

AGENCY: Federal Communications Commission.

ACTION: Final rule.

SUMMARY: This document allots Channel 288A to Freer, Texas, as that community's second local FM transmission service, in response to a petition for rule making filed by Jeraldine Anderson. See 66 FR 49330, September 27, 2001. The allotment of Channel 288A at Freer, Texas, requires a site restriction 6.8 kilometers (4.2 miles) south of the community, utilizing coordinates 27-49-20 NL and 98-38-04 WL. As Freer is located within 320 kilometers of the U.S.-Mexico border, concurrence of the Mexican government has been requested for Channel 288A at that community, but has not been received. Therefore, if a construction permit is granted for Channel 288A at Freer, Texas, prior to receipt of final notification by the Mexican government, the construction permit will include the following condition: “Operation with the facilities specified herein is subject to modification, suspension or termination without right to a hearing if found by the Commission to be necessary in order to conform to the 1992 USA-Mexico FM Broadcast Agreement, or if specifically objected to by Mexico.” With this action, this docketed proceeding is terminated.

DATES: Effective August 19, 2002. A filing window for Channel 288A at Freer, Texas, will not be opened at this time. Instead, the issue of opening the allotment for auction will be addressed by the Commission in a subsequent Order.

FOR FURTHER INFORMATION CONTACT: Nancy Joyner, Media Bureau, (202) 418-2180.

Questions related to the application filing process for Channel 288A at Freer, Texas, should be addressed to the Audio Division, (202) 418-2700.

SUPPLEMENTARY INFORMATION: This is a synopsis of the Commission's Report and Order, MM Docket No. 01-243, adopted June 26, 2002, and released July 5, 2002. The full text of this Commission decision is available for inspection and copying during normal business hours in the FCC's Reference Center (Room CY-A257), 445 Twelfth Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 288A at Freer.

Federal Communications Commission.
John A. Karousos,
Assistant Chief, Audio Division, Media Bureau.

[FR Doc. 02-17839 Filed 7-15-02; 8:45 am]

BILLING CODE 6712-01-P